DEPARTMENT OF DEFENSE

Department of the Air Force

[ARV-221214A-JA]

Notice of Intent To Grant Exclusive Patent License With a Joint Ownership Agreement

AGENCY: Department of the Air Force, Department of Defense.

ACTION: Notice of intent.

SUMMARY: Pursuant to the Bayh-Dole Act and implementing regulations, the Department of the Air Force hereby gives notice of its intent to grant an exclusive patent license with a joint ownership agreement to UNM Rainforest Innovations (f/k/a STC.UNM), an organization having the primary function of managing inventions on behalf of the University of New Mexico (see 37 CFR 401.14(k)), having a place of business at 101 Broadway Blvd., NE, Suite 1100, Albuquerque, New Mexico 87102.

DATES: Written objections must be filed no later than fifteen (15) calendar days after the date of publication of this Notice.

ADDRESSES: Submit written objections to Gabriel Mounce or Melissa Ortiz, AFRL/RV ORTA, 3550 Aberdeen Ave SE, Kirtland AFB, NM 87117-5776; or Email: AFRL.RDOX.OrgBox@us.af.mil. Include Docket No. ARV-221214A-JA in the subject line of the message.

FOR FURTHER INFORMATION CONTACT: Gabriel Mounce or Melissa Ortiz, AFRL/RV ORTA, 3550 Aberdeen Ave SE, Kirtland AFB, NM 87117-5776; or Email: AFRL.RDOX.OrgBox@us.af.mil.

SUPPLEMENTARY INFORMATION:

Abstract of Patent Application(s)

A reversible electrochemical mirror is disclosed. The reversible electrochemical mirror includes a layer of transparent conducting oxide (TCO), a cation exchange membrane disposed on the layer of TCO, and a mesh layer which may include silver disposed on the cation exchange membrane. The mirror also includes a voltage source connected to the TCO layer and the mesh layer, the voltage source being configured to electrochemically deposit and dissolve silver on the TCO. A method of reversibly controlling reflectance and transmission of a mirror and a method for forming a reversible electrochemical mirror are disclosed.

Intellectual Property

International Application No. PCT/US22/77021, filed 26 September 2022 and entitled Reversible Electrochemical Mirror using Catio Conducting Membrane.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-01910 Filed 1-30-23; 8:45 am]

BILLING CODE 5001-10-P